DEPARTMENT OF THE TREASURY

Submission for OMB Review; Comment Request

AGENCY: Department of the Treasury.

ACTION: Notice.

The Department of the Treasury will submit the following information collection requests to the Office of Management and Budget (OMB) for review and clearance in accordance with the Paperwork Reduction Act of 1995, Public Law 104-13, on or after the date of publication of this notice.

DATES: Comments should be received on or before July 29, 2015 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8140, Washington, DC 20220, or email at PRA@treasury.gov.

FOR FURTHER INFORMATION CONTACT: Copies of the submission(s) may be obtained by email at PRA@treasury.gov or the entire information collection request may be found at www.reginfo.gov.

SUPPLEMENTARY INFORMATION:

Internal Revenue Service (IRS)

OMB Number: 1545-0064.

Type of Review: Extension without change of a previously approved collection.

Title: Application for Exemption From Social Security and Medicare Taxes and Waiver of Benefits.

Form: 4029.

Abstract: Form 4029 is used by members of recognized religious groups to apply for exemption from social security and Medicare taxes under IRC sections 1402(g) and 3127. The information is used to approve or deny exemption from social security and Medicare taxes.

Affected Public: Individuals or Households.

Estimated Annual Burden Hours: 3,792.

OMB Number: 1545-0387.

Type of Review: Extension without change of a previously approved collection.

Title: Application for Filing Information Returns Electronically (FIRE).

Form: 4419.

Abstract: Under section 6011(e)(2)(a) of the Internal Revenue Code, any person, including corporations, partnerships, individuals, estates and trusts, who is required to file 250 or more information returns must file such returns electronically. Payers required to file electronically must complete Form 4419 to receive authorization to file.

Affected Public: Private Sector: Businesses or other for-profits.

Estimated Annual Burden Hours: 6,500.

OMB Number: 1545-1146.

Type of Review: Extension without change of a previously approved collection.

Title: Applicable Conventions Under the Accelerated Cost Recovery System (TD 8444—Final).

Abstract: The regulations describe the time and manner of making the notation required to be made on Form 4562 under certain circumstances when the taxpayer transfer property in certain non-recognition transactions. The information is necessary to monitor compliance with the section 168 rules.

Affected Public: Private Sector: Businesses or other for-profits.

Estimated Annual Burden Hours: 70.

OMB Number: 1545-1356.

Type of Review: Extension without change of a previously approved collection.

Title: TD 8725—Miscellaneous Sections Affected by the Taxpayer Bill of Rights 2 and the Personal Responsibility and Work Opportunity Reconciliation Act of 1996.

Abstract: This document contains final regulations relating to joint returns, property exempt from levy, interest, penalties, offers in compromise, and the awarding of costs and certain fees. The regulations reflect changes to the law made by the Taxpayer Bill of Rights 2 and a conforming amendment made by the Personal Responsibility and Work Opportunity Reconciliation Act of 1996. The regulations affect taxpayers with respect to filing of returns, interest, penalties, court costs, and payment, deposit, and collection of taxes.

Affected Public: Individuals or Households.

Estimated Annual Burden Hours: 86.

OMB Number: 1545-1788.

Type of Review: Revision of a previously approved collection.

Title: Taxpayer Advocacy Panel (TAP) Membership Application Process.

Form: 13013, 13013-D.

Abstract: The Federal Advisory Committee Act requires that committee membership be fairly balanced in terms of points of view represented and the functions to be performed. As a result, members of specific committees often have both the expertise and professional skills that parallel the program responsibilities of their sponsoring agencies. Selection of committee members is made based on the FACA's requirements and the potential member's background and qualifications. Therefore, an application, Form 13013, is needed to ascertain the desired skills set for membership. The TAP Tax Check Waiver, Form 13013-D, must be signed as a condition of membership. New and continuing members of IRS Advisory Committees/Councils are required to undergo a tax compliance check. Once signed by the applicant, the tax check wavier authorizes the Government Liaison Disclosure analysts to provide the results to the appropriate IRS officials.

Affected Public: Individuals or Households.

Estimated Annual Burden Hours: 525.

OMB Number: 1545-1831.

Type of Review: Extension without change of a previously approved collection.

Title: TD 9157 (Final) Guidance Regarding the Treatment of Certain Contingent Payment Debt Instruments With One or More Payments That Are Denominated in, or Determined by Reference to, a Nonfunctional Currency.

Abstract: The IRS needs the information from the holder of certain debt instruments in order to alert the agency that the computation of interest income/expense by the holder and issuer will not be consistent. The respondents will be holders of contingent payment debt instruments which require payments to be made in or by reference to foreign currency. The respondents will probably be investment banks, however, may also include others who hold these debt instruments for investments.

Affected Public: Private Sector: Businesses or other for-profits.

Estimated Annual Burden Hours: 100.

OMB Number: 1545-1956.

Type of Review: Extension without change of a previously approved collection.

Title: Revenue Procedure 2007-25, Regarding I.R.C. 6707A(e) and Disclosure with the SEC.

Abstract: This revenue procedure amplifies Rev. Proc. 2005-51, 2005-2 C.B. 296, which provides guidance to persons who may be required to pay certain penalties under sections 6662(h), 6662A, or 6707A of the Internal Revenue Code, and who may be required under section 6707A(e) to disclose those penalties on reports filed with the Securities and Exchange Commission (SEC). This revenue procedure describes the report on which the disclosures must be made, the information that must be disclosed, and the deadlines by which persons must make the disclosures on reports filed with the SEC in order to avoid additional penalties under section 6707A(e).

Affected Public: Private Sector: Businesses or other for-profits.

Estimated Annual Burden Hours: 430.

OMB Number: 1545-2259.

Type of Review: Extension without change of a previously approved collection.

Title: Performance and Quality for Small Wind Energy Property.

Abstract: Section 48(a)(3)(D) of the Internal Revenue Code allows a credit for energy property which meets, among other requirements, the performance and quality standards (if any) which have been prescribed by the Secretary by regulations (after consultation with the Secretary of Energy), and are in effect at the time of the acquisition of the property. Energy property includes small wind energy property. This notice provides the performance and quality standards that small wind energy property must meet to qualify for the energy credit under section 48.

Affected Public: Private Sector: Businesses or other for-profits.

Estimated Annual Burden Hours: 400.

Dated: June 24, 2015.
Dawn D. Wolfgang,
Treasury PRA Clearance Officer.

[FR Doc. 2015-15840 Filed 6-26-15; 8:45 am]

BILLING CODE 4830-01-P